DEPARTMENT OF THE INTERIOR

Bureau of Ocean Energy Management, Regulation and Enforcement

[Docket ID No. BOEM-2011-0076]

Information Collection Activity: Prospecting for Minerals Other Than Oil, Gas, and Sulphur on the Outer Continental Shelf, Revision of a Collection; Submitted for Office of Management and Budget (OMB) Review; Comment Request

AGENCY: Bureau of Ocean Energy Management, Regulation and Enforcement (BOEMRE), Interior.

ACTION: Notice.

SUMMARY: To comply with the Paperwork Reduction Act of 1995 (PRA), BOEMRE is inviting comments on a collection of information that we will submit to the Office of Management and Budget (OMB) for review and approval. The information collection request (ICR) concerns the paperwork requirements in the regulations under, Prospecting for Minerals Other than Oil, Gas, and Sulphur on the Outer Continental Shelf (OMB No. 1010-0072), and in particular, we are revising BOEMRE Form 0134 to adapt to new advances in technology (digital options) and clarifying requirements for environmental compliance.

DATES: Submit written comments by October 24, 2011.

FOR FURTHER INFORMATION CONTACT: Cheryl Blundon, Regulations and Standards Branch at (703) 787-1607. You may also contact Cheryl Blundon to obtain a copy, at no cost, of the regulations and the form that requires the subject collection of information.

ADDRESSES: You may submit comments by either of the following methods listed below.

• Electronically: go to http://www.regulations.gov. In the entry titled “Enter Keyword or ID,” enter BOEM-2011-0076 then click search. Follow the instructions to submit public comments and view supporting and related materials. BOEMRE will post all comments.

• E-mail cheryl.blundon@boemre.gov. Mail or hand-carry comments to the Department of the Interior; Bureau of Ocean Energy Management, Regulation and Enforcement; Attention: Cheryl Blundon; 381 Elden Street, MS-4024; Herndon, Virginia 20170-4817. Please reference ICR 1010-0072 in your comment and include your name and return address.

SUPPLEMENTARY INFORMATION:

Title: 30 CFR Part 280, Prospecting for Minerals Other than Oil, Gas, and Sulphur on the Outer Continental Shelf.

BOEMRE Form(s): 0134.

OMB Control Number: 1010-0072.

Abstract: The Outer Continental Shelf (OCS) Lands Act, as amended (43 U.S.C. 1331 et seq. and 43 U.S.C. 1801 et seq.), authorizes the Secretary of the Interior to prescribe rules and regulations to administer leasing of mineral resources on the OCS. An amendment to the OCS Lands Act (Pub. L. 103-426) authorizes the Secretary to negotiate agreements (in lieu of the previously required competitive bidding process) for the use of OCS sand, gravel, and shell resources for certain specified types of public uses. The specified uses will support construction of governmental projects for beach nourishment, shore protection, and wetlands enhancement; or any project authorized by the Federal Government.

Section 1340 states that “* * * any person authorized by the Secretary may conduct geological and geophysical [G&G] explorations in the Outer Continental Shelf, which do not interfere with or endanger actual operations under any lease maintained or granted pursuant to this Act, and which are not unduly harmful to aquatic life in such area.”

Section 1352 further requires that certain costs be reimbursed to the parties submitting required G&G information and data. Permittees are to be reimbursed costs of reproducing any G&G data required to be submitted and for the reasonable cost of processing geophysical information required to be submitted when processing is in a form or manner required by the Director and is not used in the normal conduct of the business of the permittee. Regulations implementing these responsibilities are in 30 CFR part 280. The Independent Offices Appropriations Act (31 U.S.C. 9701), the Omnibus Appropriations Bill (Pub. L. 104-133, 110 Stat. 1321, April 26, 1996), and the OMB Circular A-25, authorize Federal agencies to recover the full cost of services that confer special benefits. Prospecting permits are subject to cost recovery under Department of the Interior's implementing policy, and BOEMRE regulations specify service fees for these requests.

We use the information: (1) To ensure there is no environmental degradation, personal harm or unsafe operations and conditions; (2) the activities do not damage historical or archaeological sites or interfere with other uses; (3) to analyze and evaluate preliminary or planned drilling activities; (4) to monitor progress and activities in the OCS; (5) to acquire G&G data and information collected under a Federal permit offshore; (6) to determine eligibility for reimbursement from the Government for certain costs; and (7) to determine the qualifications of applicants. BOEMRE also uses the information collected to understand the G&G characteristics of hard mineral-bearing physiographic regions of the OCS.

We will protect information considered proprietary according to 30 CFR 280.70, “What data and information will be protected from public disclosure?”, 30 CFR 250.197, “Data and information to be made available to the public or for limited inspection,” 30 CFR part 252, “OCS Oil and Gas Information Program,” and the Freedom of Information Act (5 U.S.C. 552) and its implementing regulations (43 CFR 2). No items of a sensitive nature are collected. Responses are mandatory.

Frequency: On occasion; and as required in the permit.

Description of Respondents: Permittee(s).

Estimated Reporting and Recordkeeping Hour Burden: The currently approved annual reporting burden for this collection is 116 hours. The following chart details the individual components and respective hour burden estimates of this ICR. In calculating the burdens, we assumed that respondents perform certain requirements in the normal course of their activities. We consider these to be usual and customary and took that into account in estimating the burden.

Citation 30 CFR part 280 | Reporting and recordkeeping requirements | Hour burden: Non-hour cost burden
Subpart B
10; 11(a); 12; 13; Permit Form | Apply for permit (BOEMRE Form 0134) to conduct prospecting or G&G scientific research activities, including prospecting/scientific research plan and environmental assessment or required drilling plan | 8
|  | $2,012
11(b); 12(c) | File notice to conduct scientific research activities related to hard minerals, including notice to BOEMRE prior to beginning and after concluding activities | 8
Subpart C
21(a) | Report to BOEMRE if hydrocarbon/other mineral occurrences or environmental hazards are detected or adverse effects occur | 1
22 | Request approval to modify operations | 1
23(b) | Request reimbursement for expenses for BOEMRE inspection | 1
24 | Submit status and final reports on specified schedule | 8
28 | Request relinquishment of permit | 1
31(b); 73 | Governor(s) of adjacent State(s) submissions to BOEMRE: Comments on activities involving an environmental assessment; request for proprietary data, information, and samples; and disclosure agreement | 1
33, 34 | Appeal penalty, order, or decision—burden exempt under 5 CFR 1320.4(a)(2), (c).
Subpart D
40; 41; 50; 51; Permit Form | Notify BOEMRE and submit G&G data/information collected under a permit and/or processed by permittees or 3rd parties, including reports, logs or charts, results, analyses, descriptions, etc | 4
42(b); 52(b) | Advise 3rd party recipient of obligations. Part of licensing agreement between parties; no submission to BOEMRE | 1/3
42(c), 42(d); 52(c), 52(d) | Notify BOEMRE of 3rd party transactions | 1
60; 61(a) | Request reimbursement for costs of reproducing data/information and certain processing costs | 1
72(b) | Submit in not less than 5 days comments on BOEMRE intent to disclose data/information | 1
72(d) | Contractor submits written commitment not to sell, trade, license, or disclose data/information | 1
General
Part 280 | General departure and alternative compliance requests not specifically covered elsewhere in part 280 regulations | 2
Permit Form | Request extension of permit time period | 1
Permit Form | Retain G&G data/information for 10 years and make available to BOEMRE upon request | 1

Estimated Reporting and Recordkeeping Non-Hour Cost Burden: We have identified one non-hour paperwork cost burden for this collection. There is a $2,012 permit application fee.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary, including whether the information is useful; (b) evaluate the accuracy of the agency's estimate of the burden of the proposed collection of information; (c) enhance the quality, usefulness, and clarity of the information to be collected; and (d) minimize the burden on the respondents. Agencies must also estimate the non-hour paperwork cost burdens to respondents or recordkeepers resulting from the collection of information. Therefore, if you have costs to generate, maintain, and disclose this information, you should comment and provide your total capital and startup cost components or annual operation, maintenance, and purchase of service components. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: August 16, 2011.
Doug Slitor,
Acting Chief, Office of Offshore Regulatory Programs.

[FR Doc. 2011-21573 Filed 8-23-11; 8:45 am]

BILLING CODE 4310-MR-P